DEPARTMENT OF ENERGY

Federal Energy Regulatory Commission

[Project No. 14998-000]

Premium Energy Holdings, LLC; Notice of Preliminary Permit Application Accepted for Filing and Soliciting Comments, Motions To Intervene, and Competing Applications

On June 18, 2019, Premium Energy Holdings, LLC, filed an application for a preliminary permit, pursuant to section 4(f) of the Federal Power Act, proposing to study the feasibility of the Pyramid Lake Pumped Storage Project (Pyramid Lake Project or project) to be located on Pyramid Lake and Truckee River, near the community of Nixon, Washoe County, Nevada. The sole purpose of a preliminary permit, if issued, is to grant the permit holder priority to file a license application during the permit term. A preliminary permit does not authorize the permit holder to perform any land-disturbing activities or otherwise enter upon lands or waters owned by others without the owners' express permission.

The proposed project would be a closed-loop pumped storage hydropower facility. The applicant proposes three alternative upper reservoirs: San Emidio Reservoir, Tohakum Peak Reservoir, or Lake Range Reservoir. The existing Pyramid Lake would be the lower reservoir for each alternative.

Upper Reservoir Alternative 1: San Emidio Reservoir

The San Emidio alternative consists of: (1) A 180-acre upper reservoir having a total storage capacity of 21,550 acre-feet at a normal maximum operating elevation of 6,700 feet mean sea level (msl); (2) a 315-foot-high, 2,385-foot-long roller compacted concrete upper reservoir dam; (3) a 0.63-mile-long, 28-foot-diameter concrete-lined headrace tunnel; (4) a 0.5-mile-long, 25-foot-diameter concrete-lined vertical shaft; (5) a 2-mile-long, 25-foot-diameter concrete-lined horizontal tunnel; (6) five 0.1-mile-long, 16-foot-diameter steel penstocks; (7) a 500-foot-long, 85-foot-wide, 160-foot-high concrete-lined powerhouse located in an underground cavern, housing five pump-turbine generator-motor units rated for 400 megawatts (MW) each; and (8) a 0.23-mile-long, 30-foot-diameter concrete-lined tailrace tunnel discharging into the existing Pyramid Lake.

Upper Reservoir Alternative 2: Tohakum Peak Reservoir

The Tohakum Peak Reservoir alternative consists of: (1) A 160-acre upper reservoir having a total storage capacity of 27,050 acre-feet at a normal maximum operating elevation of 5,960 feet msl; (2) a 575-foot-high, 1,740-foot-long roller compacted concrete upper reservoir dam; (3) a 0.74-mile-long, 33-foot-diameter concrete-lined headrace tunnel; (4) a 0.28-mile-long, 29-foot-diameter concrete-lined vertical shaft; (5) a 1.6-mile-long, 29-foot-diameter concrete-lined horizontal tunnel; (6) five 0.18-mile-long, 19-foot-diameter steel penstocks; (7) a 500-foot-long, 85-foot-wide, 160-foot-high concrete-lined powerhouse located in an underground cavern, housing five pump-turbine generator-motor units rated for 400 MW each; and (8) a 0.22-mile-long, 35-foot-diameter concrete-lined tailrace tunnel discharging into the existing Pyramid Lake.

Upper Reservoir Alternative 3: Lake Range Reservoir

The Lake Range Reservoir alternative consists of: (1) A 160-acre upper reservoir having a total storage capacity of 26,020 acre-feet at a normal maximum operating elevation of 6,180 feet msl; (2) a 495-foot-high, 2,474-foot-long roller compacted concrete upper reservoir dam; (3) a 0.75-mile-long, 32-foot-diameter concrete-lined headrace tunnel; (4) a 0.31-mile-long, 29-foot-diameter concrete-lined vertical shaft; (5) a 1.8-mile-long, 29-foot-diameter concrete-lined horizontal tunnel; (6) five 0.18-mile-long, 18-foot-diameter steel penstocks; (7) a 500-foot-long, 85-foot-wide, 160-foot-high concrete-lined powerhouse located in an underground cavern, housing five pump-turbine generator-motor units rated for 400 MW each; and (8) a 0.22 mile-long, 34-foot-diameter concrete-lined tailrace tunnel discharging into the existing Pyramid Lake.

Lower Reservoir: Pyramid Lake

The existing Pyramid Lake is the discharge point of the Truckee River, which is the sole outlet of Lake Tahoe. It has a surface are of 121,080 acres at 3,796 feet msl, and a total storage capacity of 23.6 million acre-feet.

Interconnection

For each upper reservoir alternative, project power would be transmitted to the grid via: (1) A new, approximately 15-mile-long, 500 kilovolt (kV) transmission line extending from the powerhouse to the proposed Pyramid Converter Station (the point of interconnection); and (2) appurtenant facilities. The estimated annual generation of the Pyramid Lake Project under each of the alternatives would be 6,900 gigawatt-hours.

Applicant Contact: Victor M. Rojas, Managing Director, Premium Energy Holdings, LLC, 355 South Lemon Avenue, Suite A, Walnut, California 91789; phone: (909) 595-5314.

FERC Contact: Kyle Olcott; phone: (202) 502-8963.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-14998-000.

More information about this project, including a copy of the application, can be viewed or printed on the “eLibrary” link of Commission's website at http://www.ferc.gov/docs-filing/elibrary.asp. Enter the docket number (P-14998) in the docket number field to access the document. For assistance, contact FERC Online Support.

Dated: September 30, 2019.
Nathaniel J. Davis, Sr.,
Deputy Secretary.

[FR Doc. 2019-21637 Filed 10-3-19; 8:45 am]

BILLING CODE 6717-01-P